DEPARTMENT OF AGRICULTURE

Animal and Plant Health Inspection Service

[Docket No. APHIS-2015-0007]

Notice of Affirmation of Addition of a Treatment Schedule for Methyl Bromide Fumigation of Figs

AGENCY: Animal and Plant Health Inspection Service, USDA.

ACTION: Notice.

SUMMARY: We are affirming our earlier determination that it was necessary to immediately add to the Plant Protection and Quarantine Treatment Manual a treatment schedule for methyl bromide fumigation of figs for certain pests, including Chilean false red mite. In a previous notice, we made available to the public for review and comment a treatment evaluation document that described the new treatment schedule and explained why we have determined that it is effective at neutralizing these pests.

DATES: Effective July 21, 2015, we are affirming the addition to the Plant Protection and Quarantine Treatment Manual of the treatment described in the notice published at 80 FR 10661-10662 on February 27, 2015.

FOR FURTHER INFORMATION CONTACT: Dr. Inder P.S. Gadh, Senior Risk Manager—Treatments, PPQ, APHIS, 4700 River Road Unit 133, Riverdale, MD 20737; (301) 851-2018.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in 7 CFR part 305 (referred to below as the regulations) set out standards for treatments required in 7 CFR parts 301, 318, and 319 for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (b) sets out the process for adding, revising, or removing treatment schedules when there is an immediate need to make a change. The circumstances in which an immediate need exists are described in § 305.3(b)(1). They are:

¹ The Treatment Manual is available on the Internet at http://www.aphis.usda.gov/import_export/plants/manuals/ports/downloads/treatment.pdf or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

In accordance with § 305.3(b), we published a notice ² in the Federal Register on February 27, 2015 (80 FR 10661-10662, Docket No. APHIS-2015-0007), announcing our determination that a new methyl bromide fumigation treatment schedule to control certain pests, including Chilean false red mite (Brevipalpus chilensis), on figs (Ficus carica) is effective, based on evidence presented in a treatment evaluation document (TED) we made available with the notice. We also determined that ongoing trade in figs would be adversely impacted unless the new treatment is approved for use. The treatment was added to the PPQ Treatment Manual, but was subject to change based on public comment.

² To view the notice, the TED, and the comment we received, go to http://www.regulations.gov/#!docketDetail;D=APHIS-2015-0007.

We solicited comments on the notice for 60 days ending on April 28, 2015. We received one comment by that date, from a private citizen. The commenter stated that methyl bromide is known to deplete the stratospheric ozone layer, and that authorizing its use for treating figs violates the Montreal Protocol, in which the United States agreed to gradually reduce and ultimately eliminate use of methyl bromide.

The United States Government encourages methods that do not use methyl bromide to meet phytosanitary standards where alternatives are deemed to be technically and economically feasible, practical, and effective. At present, methyl bromide fumigation is the only authorized treatment that meets the above criteria for the treatment of external pests on figs. In addition, in accordance with Montreal Protocol Decision XI/13 (paragraph 7), APHIS is committed to promoting and employing gas recapture technology and other methods whenever possible to minimize harm to the environment caused by methyl bromide emissions.

Paragraph 5 of Article 2H of the Montreal Protocol does allow for quarantine and preshipment uses of methyl bromide, and does not specify a maximum number of such applications. Therefore, the application of this treatment is not in conflict with the protocol. Treatment of figs with methyl bromide fumigation is also consistent with the International Plant Protection Convention's standard of requiring the least restrictive phytosanitary measures to mitigate pests of concern.

Therefore, in accordance with the regulations in § 305.3(b)(3), we are affirming our addition of a methyl bromide treatment schedule for figs to control certain pests, as described in the TED made available with the previous notice. The treatment schedule is numbered T101-i-2-2. The treatment schedule will be listed in the PPQ Treatment Manual, which is available as described in footnote 1 of this document.

Authority: 7 U.S.C. 7701-7772 and 7781-7786; 21 U.S.C. 136 and 136a; 7 CFR 2.22, 2.80, and 371.3.

Done in Washington, DC, this 15th day of July 2015.
Kevin Shea,
Administrator, Animal and Plant Health Inspection Service.

[FR Doc. 2015-17841 Filed 7-20-15; 8:45 am]

BILLING CODE 3410-34-P